NATIONAL AERONAUTICS AND SPACE ADMINISTRATION

[Notice 02-084]

NASA Advisory Council, Space Science Advisory Committee; Sun-Earth Connection Advisory Subcommittee Meeting

AGENCY: National Aeronautics and Space Administration (NASA).

ACTION: Notice of meeting.

SUMMARY: In accordance with the Federal Advisory Committee Act, Public Law 92-463, as amended, the National Aeronautics and Space Administration announces a forthcoming meeting of the NASA Advisory Council (NAC), Space Science Advisory Committee (SScAC), Sun-Earth Connection Advisory Subcommittee (SECAS).

DATES: Tuesday, July 16, 2002, 8:30 a.m. to 5:30 p.m., Wednesday, July 17, 2002, 8:30 a.m. to 5:30 p.m., and Thursday, July 18, 2002, 8:30 a.m. to Noon.

ADDRESSES: NASA Headquarters, 300 E Street, SW, Washington, DC 20546, room 7H46 on July 16 and July 17, and room 6H46 on July 18.

FOR FURTHER INFORMATION CONTACT: Ms. Marian Norris, Code SB, National Aeronautics and Space Administration, Washington, DC 20546, (202) 358-4452.

SUPPLEMENTARY INFORMATION: The meeting will be open to the public up to the capacity of the room. The agenda for the meeting includes the following topics:

• Division Director's Report

• Sun-Earth Connection Theme Roadmaps

• Discipline Scientists' Reports

• Status of Living with a Star Program

• FY 02 Outcomes for Government Performance and Results Act Assessment

It is imperative that the meeting be held on these dates to accommodate the scheduling priorities of the key participants. Visitors will be requested to sign a visitor's register.

Dated: July 2, 2002.
Sylvia K. Kraemer,
Advisory Committee Management Officer, National Aeronautics and Space Administration.

[FR Doc. 02-16963 Filed 7-5-02; 8:45 am]

BILLING CODE 7510-01-P